DEPARTMENT OF ENERGY

Federal Energy Regulatory Commission

[Project No. 96-048]

Pacific Gas and Electric Company; Notice of Intent To Prepare an Environmental Assessment

On November 24, 2020, Pacific Gas and Electric Company (PG&E) filed a relicense application for the 162.72-megawatt Kerckhoff Hydroelectric Project No. 96 (project). The project is located on the San Juaquin River in Fresno and Madera Counties, California, about 25 miles northeast of the city of Fresno. The project currently occupies 180.5 acres of Federal land administered by the U.S. Forest Service (Forest Service), 92.9 acres of Federal land managed by the U.S. Bureau of Land Management (BLM), and 54.7 acres of land managed by the U.S. Bureau of Reclamation (BOR). As proposed, the project would occupy 67.2 less acres of Federal land administered by the Forest Service, an additional 3.1 acres of land managed by the BLM, and an additional 1.8 acre of land managed by the BOR. As part of its relicensing proposal, PG&E proposes to retire the project K1 Powerhouse (one of two project powerhouses), thereby decreasing the generating capacity of the project from 162.72 to 140 megawatts.

In accordance with the Commission's regulations, on June 27, 2024, Commission staff issued a notice that the project was ready for environmental analysis (REA Notice). Based on the information in the record, including comments filed on the REA Notice, staff does not anticipate that licensing the project would constitute a major Federal action significantly affecting the quality of the human environment. Therefore, staff intends to prepare an Environmental Assessment (EA) on the application to relicense the project.¹

¹ In accordance with the Council on Environmental Quality's regulations, the unique identification number for documents relating to this environmental review is EAXX-019-20-000-1725537975. 40 CFR 1501.5(c)(4) (2024).

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The application will be processed according to the following schedule. The EA will be issued for a 30-day comment period. Revisions to the schedule may be made as appropriate.

Milestone | Target date
Commission issues EA | September 19, 2025.

Any questions regarding this notice may be directed to Evan Williams at (202) 502-8462 or evan.williams@ferc.gov.

Dated: September 20, 2024.
Debbie-Anne A. Reese,
Acting Secretary.

[FR Doc. 2024-22082 Filed 9-25-24; 8:45 am]

BILLING CODE 6717-01-P